DEPARTMENT OF THE INTERIOR

National Park Service

Notice of Inventory Completion for Native American Human Remains and Associated Funerary Objects in the Possession of the National Museum of Health and Medicine, Armed Forces Institute of Pathology, Washington, DC

AGENCY: National Park Service

ACTION: Notice

Notice is hereby given in accordance with provisions of the Native American Graves Protection and Repatriation Act (NAGPRA), 43 CFR 10.9, of the completion of an inventory of human remains and associated funerary objects in the possession of the National Museum of Health and Medicine, Armed Forces Institute of Pathology, Washington, DC.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the National Museum of Health and Medicine, Armed Forces Institute of Pathology professional staff in consultation with representatives of the Klamath Indian Tribe of Oregon and the Modoc Tribe of Oklahoma.

In 1873, human remains representing one individual were collected from an unknown area in Oregon or California referred to as “the lava beds,” by J. D. Skinner. Accession records identify this individual is as brother of Sconchin, a former chief of the Modoc. No associated funerary objects are present.

Based on accession records from the National Museum of Health and Medicine, this individual has been identified as Native American. The Klamath Indian Tribe of Oregon and the Modoc Tribe of Oklahoma have a shared ancestry. Following the conclusion of the Modoc wars, the Modoc people were relocated to Oklahoma. In 1888, the Modoc reservation was established. In 1909, permission was granted to the Modoc to return to Oregon. Those who returned became part of the Klamath Indian Tribe of Oregon. To date, consultation with the Klamath Indian Tribe of Oregon and the Modoc Tribe of Oklahoma has not identified a lineal descendent.

In 1874, human remains representing four individuals were collected by an unknown individual from an unknown area. The circumstances surrounding the recovery of the remains are unknown. In 1874, the remains were donated to the National Museum of Health and Medicine (formerly the Army Medical Museum) by E. T. Parker. The museum is in possession of only two individuals. No known individuals were identified. No associated funerary objects are present.

Accession records from the National Museum of Health and Medicine indicate that the remains are from Modoc Indians who were hung. The Klamath Indian Tribe of Oregon and the Modoc Tribe of Oklahoma have a shared ancestry. Following the conclusion of the Modoc wars, the Modoc people were relocated to Oklahoma. In 1888, the Modoc reservation was established. In 1909, permission was granted to the Modoc to return to Oregon. Those who returned became part of the Klamath Indian Tribe of Oregon.

Based on the above-mentioned information, officials of the National Museum of Health and Medicine of the Armed Forces Institute of Pathology have determined that, pursuant to 43 CFR 10.2 (d)(1), the human remains listed above represent the physical remains of three individuals of Native American ancestry. Officials of the National Museum of Health and Medicine of the Armed Forces Institute of Pathology have determined that, pursuant to 43 CFR 10.2 (e), there is a relationship of shared group identity that can be reasonably traced between these Native American human remains and the Klamath Indian Tribe of Oregon and the Modoc Tribe of Oklahoma.

This notice has been sent to officials of the Klamath Indian Tribe of Oregon and the Modoc Tribe of Oklahoma. Representatives of any other Indian tribe that believes itself to be culturally affiliated with these human remains should contact Lenore Barbian, Assistant Curator, National Museum of Health and Medicine, Armed Forces Institute of Pathology, Walter Reed Army Medical Center, Building 54, Washington, DC 20306, telephone (202) 782-2203, before January 29, 2001. Repatriation of the human remains and associated funerary objects to the Klamath Indian Tribe of Oregon may begin after that date if no additional claimants come forward.

Dated: December 21, 2000
John Robbins,
Assistant Director, Cultural Resources Stewardship and Partnerships

[FR Doc. 00-33274 Filed 12-28-00; 8:45 am]

BILLING CODE 4310-70-F